DEPARTMENT OF THE INTERIOR

Bureau of Land Management

[LLORC01000.L63340000.JP0000.14XL1116AF.241A.00.HAG14-0061]

Notice of Public Meeting for the Coos Bay Resource Advisory Council: Cancellation

AGENCY: Bureau of Land Management, Interior.

ACTION: Notice; cancellation.

SUMMARY: The Bureau of Land Management, Oregon/Washington, published a document in the Federal Register on February 6, 2014, regarding a public meeting of the Coos Bay Resource Advisory Council which was scheduled for March 13, 2014. The meeting has been cancelled.

FOR FURTHER INFORMATION CONTACT: Stephen Baker, Bureau of Land Management, Oregon/Washington, Oregon State Office, P.O. Box 2965, Portland, Oregon 97208, (503) 808-6306; sabaker@blm.gov.

Jody L. Weil,
Deputy State Director, Office of Communications, Oregon/Washington.

[FR Doc. 2014-03613 Filed 2-19-14; 8:45 am]

BILLING CODE 4310-33-P